DEPARTMENT OF JUSTICE

Notice of Lodging of Proposed Consent Decree Under the Clean Air Act

On March 25, 2019, the Department of Justice lodged a proposed consent decree with the United States District Court for the District of Maine, in the lawsuit entitled United States v. Global Partners, LP, Global Companies LLC, and Chelsea Sandwich LLP, Civil Action No. 19-cv-00122.

The United States filed this lawsuit under Section 113(a)(1) of the Clean Air Act, 42 U.S.C. 7413(a)(1), and the Maine state implementation plan. The United States' complaint seeks civil penalties and injunctive relief arising from alleged excess emissions of volatile organic compounds (VOC) at the defendants' petroleum storage facility in South Portland, Maine.

The consent decree requires the defendants to pay a civil penalty of $40,000, plus interest accruing from the date of lodging to the payment date; to perform a supplemental environmental project involving the replacement of old wood stoves with cleaner units, with a minimum expenditure of $150,000; and to perform certain measures at the facility to address past VOC emissions and to limit future VOC emissions.

The publication of this notice opens a period for public comment on the consent decree. Comments should be addressed to the Assistant Attorney General, Environment and Natural Resources Division, and should refer to United States v. Global Partners LP, et al., D.J. Ref. No. 90-5-2-1-11428. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $6.50 (25 cents per page reproduction cost) payable to the United States Treasury.

Robert Maher,
Assistant Section Chief, Environmental Enforcement Section, Environment and Natural Resources Division.

[FR Doc. 2019-06257 Filed 3-29-19; 8:45 am]

BILLING CODE 4410-15-P